DEPARTMENT OF ENERGY

Federal Energy Regulatory Commission

Combined Notice of Filings #1

Take notice that the Commission received the following electric corporate filings:

Docket Numbers: EC11-44-000.

Applicants: Entegra Power, Gila River Power, L.P., Union Power Partners, L.P., Entegra Power Services LLC, EPG LLC, Entegra TC LLC.

Description: Request for Order Reauthorizing and Extending Existing Blanket Authorizations and Amending Conditions for Certain Future Transfers and Acquisitions of Equity Interests Under Section 203 of The Federal Power Act, and Request for Waiver.

Filed Date: 02/15/2011.

Accession Number: 20110215-5147.

Comment Date: 5 p.m. Eastern Time on Tuesday, March 08, 2011.

Take notice that the Commission received the following electric rate filings:

Docket Numbers: ER10-1791-002.

Applicants: Midwest Independent Transmission System Operator, Inc.

Description: Report of Midwest Independent Transmission System Operator, Inc.

Filed Date: 02/14/2011.

Accession Number: 20110214-5199.

Comment Date: 5 p.m. Eastern Time on Monday, March 07, 2011.

Docket Numbers: ER11-2275-001.

Applicants: Midwest Independent Transmission System Operator, Inc.

Description: Midwest Independent Transmission System Operator, Inc. amends the effective date of its December 1, 2010 filing to Revise the Open Access Transmission, Energy and Operating Reserve Markets Tariff.

Filed Date: 02/15/2011.

Accession Number: 20110215-5135.

Comment Date: 5 p.m. Eastern Time on Tuesday, February 22, 2011.

Docket Numbers: ER11-2670-001.

Applicants: Occidental Chemical Corporation.

Description: Occidental Chemical Corporation submits tariff filing per 35.17(b): Amendment to MBR Tariff to be effective 1/13/2011.

Filed Date: 02/15/2011.

Accession Number: 20110215-5120.

Comment Date: 5 p.m. Eastern Time on Tuesday, March 08, 2011.

Docket Numbers: ER11-2887-000.

Applicants: PacifiCorp.

Description: PacifiCorp submits tariff filing per 35.13(a)(2)(iii): BPA AC Intertie Agreement to be effective 4/17/2011.

Filed Date: 02/15/2011.

Accession Number: 20110215-5045.

Comment Date: 5 p.m. Eastern Time on Tuesday, March 08, 2011.

Docket Numbers: ER11-2888-000.

Applicants: Sierra Pacific Power Company.

Description: Sierra Pacific Power Company submits tariff filing per 35: Rate Schedule No. 62—Compliance to Fix Date of Concurrence to be effective 1/1/2011.

Filed Date: 02/15/2011.

Accession Number: 20110215-5046.

Comment Date: 5 p.m. Eastern Time on Tuesday, March 08, 2011.

Docket Numbers: ER11-2889-000.

Applicants: Cabrillo Power I LLC.

Description: Cabrillo Power I LLC submits tariff filing per 35.1: Cabrillo Power I LLC—Baseline Tariff to be effective 8/17/2010.

Filed Date: 02/16/2011.

Accession Number: 20110216-5000.

Comment Date: 5 p.m. Eastern Time on Wednesday, March 09, 2011.

Docket Numbers: ER11-2890-000.

Applicants: Cabrillo Power II LLC.

Description: Cabrillo Power II LLC submits tariff filing per 35.1: Cabrillo Power II LLC—Baseline Tariff to be effective 8/17/2010.

Filed Date: 02/16/2011.

Accession Number: 20110216-5001.

Comment Date: 5 p.m. Eastern Time on Wednesday, March 09, 2011.

Docket Numbers: ER11-2891-000.

Applicants: El Segundo Power LLC.

Description: El Segundo Power LLC submits tariff filing per 35.1: El Segundo Power—Baseline Tariff to be effective 8/17/2010.

Filed Date: 02/16/2011.

Accession Number: 20110216-5002.

Comment Date: 5 p.m. Eastern Time on Wednesday, March 09, 2011.

Docket Numbers: ER11-2892-000.

Applicants: Long Beach Generation LLC.

Description: Long Beach Generation LLC submits tariff filing per 35.1: Long Beach Generation LLC—Baseline Tariff to be effective 8/17/2010.

Filed Date: 02/16/2011.

Accession Number: 20110216-5003.

Comment Date: 5 p.m. Eastern Time on Wednesday, March 09, 2011.

Docket Numbers: ER11-2893-000.

Applicants: Florida Power Corporation.

Description: Florida Power Corporation submits tariff filing per 35.13(a)(2)(iii): Revised Rate Schedule No. 193 of Florida Power Corporation to be effective 1/1/2011.

Filed Date: 02/16/2011.

Accession Number: 20110216-5016.

Comment Date: 5 p.m. Eastern Time on Wednesday, March 09, 2011.

Docket Numbers: ER11-2894-000.

Applicants: Granite State Electric Company.

Description: Granite State Electric Company submits tariff filing per 35.1: Borderline Sales Tariff Rate Schedule Update Filing to be effective 2/17/2011.

Filed Date: 02/16/2011.

Accession Number: 20110216-5026.

Comment Date: 5 p.m. Eastern Time on Wednesday, March 09, 2011.

Docket Numbers: ER11-2895-000.

Applicants: Duke Energy Carolinas, LLC.

Description: Duke Energy Carolinas, LLC submits tariff filing per 35.13(a)(1): Transmission Formula Rate Case to be effective 6/1/2011.

Filed Date: 02/16/2011.

Accession Number: 20110216-5043.

Comment Date: 5 p.m. Eastern Time on Wednesday, March 09, 2011.

Docket Numbers: ER11-2896-000.

Applicants: NorthWestern Corporation.

Description: NorthWestern Corporation submits tariff filing per 35.13(a)(2)(iii): Service Agreement No. 20-SD Engineering, Procurement and Construction Agreement to be effective 1/14/2011.

Filed Date: 02/16/2011.

Accession Number: 20110216-5071.

Comment Date: 5 p.m. Eastern Time on Wednesday, March 09, 2011.

Docket Numbers: ER11-2897-000.

Applicants: PJM Interconnection, L.L.C.

Description: PJM Interconnection, L.L.C. submits tariff filing per 35.13(a)(2)(iii): R81 ISA, 2nd Rev. Service Agreement No. 2301, Fairless Energy & PECO to be effective 9/18/2009.

Filed Date: 02/16/2011.

Accession Number: 20110216-5073.

Comment Date: 5 p.m. Eastern Time on Wednesday, March 09, 2011.

Take notice that the Commission received the following PURPA 210(m)(3) filings:

Docket Numbers: QM11-1-000.

Applicants: Public Service Electric and Gas Company.

Description: Supplemental Information of Public Service Electric and Gas Company.

Filed Date: 02/16/2011.

Accession Number: 20110216-5074.

Comment Date: 5 p.m. Eastern Time on Wednesday, March 16, 2011.

Take notice that the Commission received the following electric reliability filings.

Docket Numbers: RD11-4-000.

Applicants: North American Electric Reliability Corporation.

Description: Petition of the North American Electric Reliability Corporation for Approval of One Emergency Preparedness and Operations Reliability Standard EOP-008-1 and Retirement of One Existing Reliability Standard EOP-008-0.

Filed Date: 02/11/2011.

Accession Number: 20110211-5100.

Comment Date: 5 p.m. Eastern Time on Friday, March 04, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: February 16, 2011.
Nathaniel J. Davis, Sr.,
Deputy Secretary.

[FR Doc. 2011-4110 Filed 2-23-11; 8:45 am]

BILLING CODE 6717-01-P